DEPARTMENT OF ENERGY

Federal Energy Regulatory Commission

[Docket No. RP00-310-001]

Discovery Gas Transmission LLC; Notice of Request for Waiver

June 21, 2000.

Take notice that on June 14, 2000, Discovery Gas Transmission LLC (Discovery) tendered for filing a Request for Waiver of section 4 of its FT-1, FT-2, and IT Rate Schedules related to the recovery mechanism for lost and unaccounted for gas.

Discovery states that the request for a waiver is intended to supplement Discovery's May 31, 2000, filing in this proceeding to retain a .5 percent retention rate for lost and unaccounted for gas during the one-year period commencing July 1, 2000.

Any person desiring to protest said filing should file a protest with the Federal Energy Regulatory Commission, 888 First Street, NE., Washington, DC 20426, in accordance with Section 385.211 of the Commission's Rules and Regulations. All such protests must be filed on or before June 28, 2000. Protests will be considered by the Commission in determining the appropriate action to be taken, but will not serve to make protestants parties to the proceedings. Copies of this filing are on file with the Commission and are available for public inspection in the Public Reference Room. This filing may be viewed on the web at http://www/ferc.fed.us/online/rims.htm (call 202-208-2222 for assistance).

David P. Boergers,
Secretary.

[FR Doc. 00-16130 Filed 6-26-00; 8:45 am]

BILLING CODE 6717-01-M